DEPARTMENT OF JUSTICE

Antitrust Division

Notice Pursuant to The National Cooperative Research and Production Act of 1993—Senior Healthcare Innovation Consortium

Notice is hereby given that, on November 2, 2022, pursuant to Section 6(a) of the National Cooperative Research and Production Act of 1993, 15 U.S.C. 4301 et seq. (“the Act”), Senior Healthcare Innovation Consortium (“SHIC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Achilles Consulting Group, Mandeville, LA; Advanced Biomimetic Sensors, Inc., Bethesda, MD; Alentic Microscience, Inc., Halifax, CANADA; Alira Health, Framingham, MA; Altec, Inc., Natick, MA; Articulate Labs, Dallas, TX; Asante Bio, Tampa, FL; Aspen Medical USA, Inc., San Antonio, TX; Aspire Clinical Intelligence LLC, Grand Forks, ND; Athena GTX, Inc., Johnston, IA; AuraBlue, Somerville, MA; Avel eCare LLC, Sioux Falls, SD; Axon Medical Technologies, New Cumberland, PA; Biocanic, Inc., San Diego, CA; Bioscience Association of North Dakota, Grand Forks, ND; BiotechPharma Corp., Severna Park, MD; Board of Trustees of the University of Illinois, Champaign, IL; Bodies Done Right, Mayfield Village, OH; Capital Edge Consulting, Inc., McLean, VA; Cedars-Sinai Medical Center, Los Angeles, CA; Center for Innovation Foundation, Grand Forks, ND; Charles River Analytics, Cambridge, MA; Claerosol LLC, Miramar, FL; ComDel Innovation, Wahpeton, ND; DxLab, Inc., Somerville, MA; Edgewood Healthcare, Grand Forks, ND; Elevate Government Solutions, Washington, DC; Elmai Corp., Redmond, WA; EmPowerYu, Inc., Santa Clara, CA; FemtoDx, Beverly Hills, CA; Florida Institute for Human & Machine Cognition, Pensacola, FL; Flosonics Medical, Sudbury, CAN; Gakusisha LTD, Bunkyo-Ku, JPN; Health Care Originals, Rochester, NY; Jana Care, Inc., Boston, MA; Kinsa, Inc., San Francisco, CA; Kismet Technologies, Winter Park, FL; Knight Technical Solutions, Huntsville, AL; LAINE Technologies, Goose Creek, SC; Latham BioPharm Group, Inc., Elkridge, MD; Legacy Medical PLLC, Grand Forks, ND; Luna Labs, Charlottesville, VA; Matregenix, Irvine, CA; MDI Health Technologies, Studio City, CA; MedSafer, Montreal, CAN; Memsel, Inc., Fort Worth, TX; MitoSense, Inc., Great Falls, VA; MMB Healthcare Lincoln Therapeutics, Fargo, ND; Mobile Physician Associates, Beverly Hills, CA; Modulim, Irvine, CA; NeuroMetrix, Inc., Woburn, MA; North Carolina State University, Raleigh, NC; Omnica Corporation, Irvine, CA; Organizational Performance Systems, Los Altos, CA; OrthoTreat, Tel Aviv Jaffa, ISO; Pneumeric, Inc., Rochester, MN; Pockit Diagnostics, Cambridge, GBR; PONS, Newark, NJ; PPX-TEC LLC, Jackson, MS; PragmaClin Research, Inc., St. John's, CAN; Prohuman Technologies, Concord, NC; PyrAmes, Inc. Cupertino, CA; Qidni Labs, Buffalo, NY; ResQdevices, Eveleigh, AU; Rhaeos, Evanston, IL; Rhythmlink International LLC, Columbia, SC; Ridgeline Therapeutics, Houston, TX; Rift Valley Health Company, Longmont, CO; Rosalind Franklin University, North Chicago, IL; RTSync Corp., Chandler, AZ; Rubix LS, Lawrence, MA; SafeBeat Rx, Inc., Chico, CA; SafetySpect, Inc., Grand Forks, ND; Sana Health, Inc., Sandy, UT; Scientific & Biomedical Microsystems LLC, Glen Burnie, MD; Sempulse, San Marcos, TX; Simple Solutions Medical, Chattanooga, TN; SimX, Inc., San Francisco, CA; Sonogen Medical, Inc., Chevy Chase, MD; StataDX, Boston, MA; SwiftScience, Pittsburgh, PA; Terida LLC, Pinehurst, NC; Thrifty White, Pharmacy Fargo, ND; Together Senior Health, San Francisco, CA; UND Biomedical Engineering Program, Grand Forks, ND; University of North Dakota College of Eng & Mines, Grand Forks, ND; Utopia Compression Corp., Los Angeles, CA; Valqari, Lombard, IL; Vistendo, Inc., Arcadia, CA; Weinberg Medical Physics, Inc., Rockville, MD; and Wound Exam Corp., Grand Forks, ND. The general area of SHIC's planned activity is an education and scientific research consortium dedicated to leveraging technology and data to positively impact senior healthcare treatment and delivery models to reduce societal costs. SHIC's mission is to improve senior population health quality, safety and illness prevention, reduce social costs, and alleviate staffing shortages.

Suzanne Morris,
Deputy Director, Civil Enforcement Operations, Antitrust Division.

[FR Doc. 2022-25498 Filed 11-22-22; 8:45 am]

BILLING CODE 4410-11-P